DEPARTMENT OF COMMERCE

National Institute of Standards and Technology

Notice of Public Workshop: “Designing for Impact III: Workshop on Building the National Network for Manufacturing Innovation”

AGENCY: Advanced Manufacturing National Program Office, National Institute of Standards and Technology, Department of Commerce.

ACTION: Notice.

SUMMARY: The Advanced Manufacturing National Program Office (AMNPO), housed at the National Institute of Standards and Technology (NIST), announces the third workshop in a series of public workshops entitled “Designing for Impact: Workshop on Building the National Network for Manufacturing Innovation.” This workshop series provides a forum for the AMNPO to introduce the National Network for Manufacturing Innovation (NNMI) and its regional components, Institutes for Manufacturing Innovation (IMIs), and for public discussion of this new initiative that was announced by President Obama on March 9, 2012.¹ The discussion at the workshop will focus on the following topics: Technologies with Broad Impact, Institute Structure and Governance, Strategies for Sustainable Institute Operations, and Education and Workforce Development.

¹ http://www.whitehouse.gov/the-press-office/2012/03/09/remarks-president-manufacturing-and-economy.

The Designing for Impact workshop series is organized by the federal interagency AMNPO, in cooperation with stakeholders and local organizations. AMNPO partner agencies include the Department of Commerce, National Institute of Standards and Technology (NIST); Department of Defense; Department of Energy's Advanced Manufacturing Office; Department of Labor; National Aeronautics and Space Administration (NASA); and National Science Foundation. Local hosts and co-organizers for the third workshop event include the National Academy of Engineering (NAE), the National Academies of Sciences and Engineering's University-Industry Research Roundtable (GUIRR) and University-Industry Demonstration Partnership (UIDP), the University of California (UC) Irvine, and NASA's Jet Propulsion Laboratory (JPL).

DATES: The third public workshop in this series will be held on Thursday, September 27, 2012 from 10:00 a.m. until 5:00 p.m. Pacific time. Event check-in will begin at approximately 9:00 a.m. Pacific time. Please see registration information in the SUPPLEMENTARY INFORMATION section below.

ADDRESSES: The third public workshop in this series will be held at Arnold and Mabel Beckman Center of the National Academies of Sciences and Engineering, 100 Academy, Irvine, CA 92617.

FOR FURTHER INFORMATION CONTACT: Michael Schen, (301) 975-6741, michael.schen@nist.gov; or Steven Schmid, (301) 975-8652, steven.schmid@nist.gov; or LaNetra Tate, (301) 975-8723, lanetra.c.tate@nasa.gov. Additional information may also be found at: http://manufacturing.gov/amp/event_092712.html.

SUPPLEMENTARY INFORMATION:

Legal Authority: 15 U.S.C. 272(b)(1).

Members of the public wishing to attend this public workshop are encouraged to register in advance and may do so online through the event Web site: http://www.manufacturing.gov/amp/event_092712.html. Space is limited. Registration will be on a first-come first-served basis, with no more than four representatives from the same organization accepted. Advance online registration will close at 11:59 p.m. Pacific time, Tuesday, September 18, 2012, or when all spaces have been filled, whichever occurs first. After advance online registration closes, registration will be permitted only on a first-come, first-served basis on the day of the event, on site, should space become available. Please check the event Web site, http://www.manufacturing.gov/amp/event_092712.html, for space availability information. Early registration is encouraged.

The proposed NNMI initiative focuses on strengthening and ensuring the long-term competitiveness and job-creating power of U.S. manufacturing. The constituent IMIs will bring together industry, universities and community colleges, federal agencies, and U.S. states to accelerate innovation by investing in industrially-relevant manufacturing technologies with broad applications to bridge the gap between basic research and product development, provide shared assets to help companies—particularly small manufacturers—access cutting-edge capabilities and equipment, and create an unparalleled environment to educate and train students and workers in advanced manufacturing skills. The President's proposed FY 2013 budget includes $1 billion for this proposed initiative.

Each IMI will serve as a regional hub of manufacturing excellence, providing the innovation infrastructure to support regional manufacturing and ensuring that our manufacturing sector is a key pillar in an economy that is built to last. Each IMI also will have a well-defined technology focus to address industrially-relevant manufacturing challenges on a large scale and to provide the capabilities and facilities required to reduce the cost and risk of commercializing new technologies.

In his March 9, 2012, announcement, President Obama proposed building a national network consisting of up to 15 IMIs.

On December 15, 2011, Commerce Secretary John Bryson announced the AMNPO that is hosted by the NIST.² The AMNPO is charged with convening and enabling industry-led, private-public partnerships focused on manufacturing innovation and engaging U.S. universities and designing and implementing an integrated “whole of government” advanced manufacturing initiative to facilitate collaboration and information sharing across federal agencies.

² http://www.commerce.gov/news/press-releases/2011/12/16/commerce-secretary-john-bryson-lays-out-vision-department-commerce.

The AMNPO has held two prior Designing for Impact workshops as part of its strategy for soliciting nation-wide input on building the NNMI. The first workshop was held on April 25, 2012, at Rensselaer Polytechnic Institute in Troy, New York, and the second on July 9, 2012, at Cuyahoga Community College in Cleveland, Ohio. On May 4, 2012, the AMNPO issued a Request for Information (RFI), seeking public comment on specific questions related to the structure and operations of the NNMI and IMIs. The RFI was published in the Federal Register and may be found at: http://www.gpo.gov/fdsys/pkg/FR-2012-05-04/pdf/2012-10809.pdf. Comments in response to the RFI are due on or before 11:59 p.m. Eastern time on October 25, 2012.

Announcements of additional workshops may be found at: http://www.manufacturing.gov/amp/ampevents.html. Future workshops will also be announced in the Federal Register.

Dated: August 14, 2012.
Phillip Singerman,
Associate Director for Innovation and Industry Services.

[FR Doc. 2012-20535 Filed 8-20-12; 8:45 am]

BILLING CODE 3510-13-P